DEPARTMENT OF THE TREASURY

Office of Foreign Assets Control

Unblocking of Specially Designated Nationals and Blocked Persons Resulting From the Termination of the National Emergency and Revocation of Executive Orders Related to Burma

AGENCY: Office of Foreign Assets Control, Treasury.

ACTION: Notice.

SUMMARY: The Treasury Department's Office of Foreign Assets Control (OFAC) is removing from the Specially Designated Nationals and Blocked Persons List (SDN List) the names of the persons listed below whose property and interests in property had been blocked pursuant to Executive Order 13310 of July 28, 2003 (Blocking Property of the Government of Burma and Prohibiting Certain Transactions), Executive Order 13448 of October 18, 2007 (Blocking Property and Prohibiting Certain Transactions Related to Burma), Executive Order 13464 of April 30, 2008 (Blocking Property and Prohibiting Certain Transactions Related To Burma), and Executive Order 13619 of July 11, 2012 (Blocking Property of Persons Threatening the Peace, Security, or Stability of Burma).

DATES: OFAC's actions described in this notice are effective as of October 7, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410 (not toll free numbers).

SUPPLEMENTARY INFORMATION:

Electronic and Facsimile Availability

The SDN List and additional information concerning OFAC sanctions programs are available from OFAC's Web site (https://www.treasury.gov/resource-center/sanctions/Pages/default.aspx).

Notice of OFAC Actions

On October 7, 2016, the President signed an Executive Order terminating the national emergency declared in Executive Order 13047 of May 20, 1997 (Prohibiting New Investment in Burma), and revoked that order, Executive Order 13310 of July 28, 2003 (Blocking Property of the Government of Burma and Prohibiting Certain Transactions), Executive Order 13448 of October 18, 2007 (Blocking Property and Prohibiting Certain Transactions Related to Burma), Executive Order 13464 of April 30, 2008 (Blocking Property and Prohibiting Certain Transactions Related To Burma), Executive Order 13619 of July 11, 2012 (Blocking Property of Persons Threatening the Peace, Security, or Stability of Burma), and Executive Order 13651 of August 6, 2013 (Prohibiting Certain Imports of Burmese Jadeite and Rubies).

As such, the following individuals and entities are no longer subject to the blocking provisions in any of the Burma-related Executive Orders revoked by the President and are being removed from the SDN List as of the effective date of Executive Order 13742 of October 7, 2016, Termination of Emergency With Respect to the Actions and Policies of the Government of Burma:

1. HTOO TRADING COMPANY LIMITED (a.k.a. HTOO TRADING GROUP COMPANY), 5 Pyay Road, Hlaing Township, Yangon, Burma [BURMA].

2. HTOO WOOD PRODUCTS PTE. LIMITED (a.k.a. HTOO FURNITURE; a.k.a. HTOO WOOD; a.k.a. HTOO WOOD PRODUCTS; a.k.a. HTOO WOOD-BASED INDUSTRY), 3 Shenton Way, #24-02 Shenton House, Singapore, 068805, Singapore; 5 Pyay Road, Hlaing Township, Yangon, Burma; Shwe Pyithar T/S, Tangon, Burma; No. 21 Thukha Waddy Road, Yankin T/S, Yangon, Burma [BURMA].

3. HTOO GROUP OF COMPANIES, 5 Pyay Road, Hlaing Township, Yangon, Burma [BURMA].

4. HTAY, Thein; DOB 07 Sep 1955; POB Taunggyi, Burma; Lieutenant General; Chief of Defence Industries; Chief of Army Ordnance Industries (individual) [BURMA].

5. HOTEL MAX (a.k.a. HOTEL CHAUNG THA BEACH RESORT), No. 1 Ywama Curve, Ba Yint Naung Road, Block-2, Hlaing Township, Yangon, Burma [BURMA].

6. LWIN, Saw, Burma; DOB 1939; alt. nationality Burma; alt. citizen Burma; Major General, Minister of Industry 2 (individual) [BURMA].

7. MANN, Aung Thet (a.k.a. KO, Shwe Mann Ko), c/o Htoo Trading Company Limited, undetermined; c/o Htoo Group of Companies, undetermined; c/o Ayer Shwe Wah Company Limited, undetermined; DOB 19 Jun 1977 (individual) [BURMA].

8. MAX (MYANMAR) CONSTRUCTION CO., LTD, 1 Ywama Curve, Bayint Naung Road, Ward (2), Hlaing Township, Yangon, Burma [BURMA].

9. MAX MYANMAR GEMS AND JEWELLERY CO., LTD., 1 Ywama Curve, Bayint Naung Road, Ward (2), Hlaing Township, Yangon, Burma [BURMA].

10. MAX MYANMAR GROUP OF COMPANIES (a.k.a. MAX MYANMAR; a.k.a. MAX MYANMAR CO.; a.k.a. MAX MYANMAR COMPANY LIMITED; a.k.a. MAX MYANMAR GROUP), No. 1 Ywama Curve, Ba Yint Naung Road, Ward (2), Hlaing Township, Yangon, Burma [BURMA].

11. MAX MYANMAR MANUFACTURING CO., LTD., 1 Ywama Curve, Bayint Naung Road, Ward (2), Hlaing Township, Yangon, Burma [BURMA].

12. PAVO AIRCRAFT LEASING PTE. LTD., 3 Shenton Way, #24-02 Shenton House 068805, Singapore [BURMA].

13. OO, Tin Aung Myint (a.k.a. OO, Thiha Thura Tin Aung Myint); DOB 27 May 1950; nationality Burma; citizen Burma; Lieutenant-General; Quartermaster General; Minister of Military Affairs; Member, State Peace and Development Council (individual) [BURMA].

14. OO, Maung; DOB 1952; nationality Burma; citizen Burma; Major General; Minister of Home Affairs (individual) [BURMA].

15. OO, Kyaw Nyunt; DOB 30 Jun 1959; Lieutenant Colonel; Staff Officer (Grade 1), D.D.I. (individual) [BURMA].

16. NYEIN, Chan (a.k.a. NYEIN, Chan, Dr.; a.k.a. NYEIN, Chang, Dr.), Burma; DOB 1944; alt. nationality Burma; alt. citizen Burma; Minister of Education (individual) [BURMA].

17. NG, Sor Hong (a.k.a. LAW, Cecilia; a.k.a. LO, Cecilia; a.k.a. NG, Cecilia), 150 Prince Charles Crescent, #18-03, Singapore 159012, Singapore; 3 Shenton Way, #10-01 Shenton House, Singapore 068805, Singapore; DOB 1958; citizen Singapore; Identification Number S1481823E (Singapore); Chief Executive, Managing Director, and Owner, Golden Aaron Pte. Ltd., Singapore; Director and Owner, G A Ardmore Pte. Ltd., Singapore; Chief Executive, Director and Owner, G A Capital Pte. Ltd., Singapore; Director and Owner, G A Foodstuffs Pte. Ltd., Singapore; Chief Executive, Director and Owner, G A Land Pte. Ltd., Singapore; Director and Owner, G A Resort Pte. Ltd., Singapore; Chief Executive, Director and Owner, G A Sentosa Pte. Ltd., Singapore; Chief Executive, Director and Owner, G A Treasure Pte. Ltd., Singapore; Director and Owner, G A Whitehouse Pte. Ltd., Singapore; Chief Executive, Manager, and Owner, S H Ng Trading Pte. Ltd., Singapore (individual) [BURMA].

18. MYINT, Ye; DOB 21 Oct 1943; nationality Burma; citizen Burma; Lieutenant-General; Chief, Military Affairs; Chief, Bureau of Special Operation 1; Member, State Peace and Development Council (individual) [BURMA].

19. MYINT, Tin Lin (a.k.a. MYINT, Daw Tin Lin); DOB 25 Jan 1947; wife of Ye Myint (individual) [BURMA].

20. MYINT, Kyaw (a.k.a. MYINT, Kyaw, Dr.), Burma; DOB 1940; alt. nationality Burma; alt. citizen Burma; Minister of Health (individual) [BURMA].

21. MYINT, Htay (a.k.a. MYINT, U Htay), Burma; DOB 06 Feb 1955; nationality Burma; citizen Burma; Chairman, Yuzana Company Limited (individual) [BURMA].

22. MYAWADDY TRADING LTD. (a.k.a. MYAWADDY TRADING CO.), 189-191 Maha Bandoola Street, Botataung P.O, Yangon, Burma [BURMA].

23. MYANMAR ECONOMIC CORPORATION (a.k.a. MEC), 74-76 Shwedagon Pagoda Road, Dagon Township, Yangon, Burma [BURMA].

24. MYANMAR IMPERIAL JADE CO., LTD, 22 Sule Pagoda Road, Mayangone Township, Yangon, Burma [BURMA].

25. MYANMAR IVANHOE COPPER COMPANY LIMITED (a.k.a. MICCL; a.k.a. MONYWA JVCO; a.k.a. MYANMAR IVANHOE COPPER CO. LTD.), 70 (I) Bo Chein Street, 6.5 miles Pyay Road, Yangon, Burma; 70 (I) Bo Chein Street, Pyay Road, Hlaing Township, Yangon, Burma; Monywa, Sagaing Division, Burma [BURMA].

26. STATE PEACE AND DEVELOPMENT COUNCIL OF BURMA [BURMA].

27. THA, Soe, Burma; DOB 1945; alt. nationality Burma; alt. citizen Burma; Minister of National Planning and Economic Development (individual) [BURMA].

28. THAUNG (a.k.a. THAUNG, U), Burma; DOB 06 Jul 1937; alt. nationality Burma; alt. citizen Burma; Minister of Labor; Minister of Science & Technology (individual) [BURMA].

29. ASIA WORLD PORT MANAGEMENT CO. LTD (a.k.a. ASIA WORLD PORT MANAGEMENT; a.k.a. “PORT MANAGEMENT CO. LTD.”), 61-62 Wartan St, Bahosi Yeiktha, Rangoon, Burma [BURMA].

30. AUREUM PALACE HOTELS AND RESORTS (a.k.a. AUREUEM PALACE HOTEL AND RESORT (BAGAN); a.k.a. AUREUEM PALACE HOTEL AND RESORT (NGAPALI); a.k.a. AUREUM PALACE HOTEL AND RESORT (NGWE SAUNG); a.k.a. AUREUM PALACE HOTEL AND RESORT GROUP CO. LTD.; a.k.a. AUREUM PALACE HOTEL RESORT; a.k.a. AUREUM PALACE RESORTS; a.k.a. AUREUM PALACE RESORTS AND SPA), No. 41 Shwe Taung Gyar Street, Bahan Township, Yangon, Burma; Thandwe, Rakhine, Burma [BURMA].

31. ASIA WORLD INDUSTRIES LTD., No. 21/22 Upper Pansodan St., Aung San Stadium (East Wing), Mingalar Taung Nyunt, Rangoon, Burma [BURMA].

32. AYE, Maung; DOB 25 Dec 1937; nationality Burma; citizen Burma; Vice Senior General; Vice-Chairman of the State Peace and Development Council; Deputy Commander-in-Chief, Myanmar Defense Services (Tatmadaw); Commander-in-Chief, Myanmar Army (individual) [BURMA].

33. AYER SHWE WAH COMPANY LIMITED (a.k.a. AYE YAR SHWE WAH; a.k.a. AYER SHWE WA; a.k.a. AYEYA SHWE WAR COMPANY), 5 Pyay Road, Hlaing Township, Yangon, Burma [BURMA].

34. AYEYARWADY BANK (a.k.a. AYEYARWADDY BANK LTD; a.k.a. IRRAWADDY BANK), Block (111-112), Asint Myint Zay, Zabu Thiri Township, Nay Pyi Taw, Burma; No. 1 Ywama Curve, Ba Yint Naung Road, Block (2), Hlaing Township, Yangon, Burma; SWIFT/BIC AYAB MM MY [BURMA].

35. DIRECTORATE OF DEFENCE INDUSTRIES (a.k.a. KA PA SA; a.k.a. “DDI”), Burma; Ministry of Defence, Shwedagon Pagoda Road, Yangon, Burma [BURMA].

36. ESPACE AVENIR EXECUTIVE SERVICED APARTMENT (a.k.a. ESPACE AVENIR), No. 523, Pyay Road, Kamaryut Township, Yangon, Burma [BURMA].

37. EXCELLENCE MINERAL MANUFACTURING CO., LTD., Plot No. (142), U Ta Yuoat Gyi Street, Industrial Zone No. (4), Hlaing Thar Yar Township, Yangon, Burma [BURMA].

38. G A ARDMORE PTE. LTD., 3 Shenton Way, #10-01 Shenton House, Singapore 068805, Singapore [BURMA].

39. G A ARDMORE PTE. LTD., 101 Cecil Street, 08-08 Tong Eng Building, Singapore 069533, Singapore; 3 Shenton Way, 10-01 Shenton House, Singapore 068805, Singapore [BURMA].

40. G A CAPITAL PTE. LTD., 101 Cecil Street, 08-08 Tong Eng Building, Singapore 069533, Singapore [BURMA].

41. LAW, Steven (a.k.a. CHUNG, Lo Ping; a.k.a. HTUN MYINT NAING; a.k.a. LAW, Stephen; a.k.a. LO, Ping Han; a.k.a. LO, Ping Hau; a.k.a. LO, Ping Zhong; a.k.a. LO, Steven; a.k.a. TUN MYINT NAING; a.k.a. U MYINT NAING), No. 124 Insein Road, Ward (9), Hlaing Township, Rangoon, Burma; 61-62 Bahosi Development Housing, Wadan St., Lanmadaw Township, Rangoon, Burma; 330 Strand Rd., Latha Township, Rangoon, Burma; 8A Jalan Teliti, Singapore, Singapore; 3 Shenton Way, #10-01 Shenton House, Singapore 068805, Singapore; DOB 16 May 1958; alt. DOB 27 Aug 1960; POB Lashio, Burma; citizen Burma; Passport 937174 (Burma) (individual) [BURMA].

42. KO, Myint Myint (a.k.a. KO, Daw Myint Myint); DOB 11 Jan 1946; wife of Saw Tun (individual) [BURMA].

43. INNWA BANK LTD (a.k.a. INNWA BANK), 554-556 Corner of Merchant Street and 35th Street, Kyauktada Township, Yangon, Burma; SWIFT/BIC AVAB MM M1 [BURMA].

44. HTWE, Aung; DOB 01 Feb 1943; nationality Burma; citizen Burma; Lieutenant-General; Chief of Armed Forces Training; Member, State Peace and Development Council (individual) [BURMA].

45. GOLD OCEAN PTE LTD, 101 Cecil Street #08-08, Tong Eng Building, Singapore 069533, Singapore; 1 Scotts Road, #21-07/08 Shaw Centre, Singapore 228208, Singapore [BURMA].

46. GOLD ENERGY CO. LTD., No. 74 Lan Thit Road, Insein Township, Rangoon, Burma; Taungngu (Tungoo) Branch, Karen State, Burma [BURMA].

47. G A FOODSTUFFS PTE. LTD., 101 Cecil Street, 08-08 Tong Eng Building, Singapore 069533, Singapore [BURMA].

48. SOE MIN HTAIK CO. LTD. (a.k.a. SOE MIN HTIKE CO., LTD.; a.k.a. SOE MIN JTIAK CO. LTD.; a.k.a. SOE MING HTIKE), No. 4, 6A Kabaaye Pagoda Road, Mayangon Township, Yangon, Burma; No. 3, Kan Street, No. 10 Ward, Hlaing Township, Yangon, Burma [BURMA].

49. SOE, Myint Myint (a.k.a. SOE, Daw Myint Myint); DOB 15 Jan 1953; wife of Nyan Win (individual) [BURMA].

50. SWE, Myint; DOB 24 Jun 1951; nationality Burma; citizen Burma; Lieutenant-General; Chief of Military Affairs Security (individual) [BURMA].

51. TERRESTRIAL PTE. LTD., 3 Raffles Place, #06-01 Bharat Building, Singapore 048617, Singapore; 10 Anson Road, #23-16 International Plaza, Singapore 079903, Singapore [BURMA].

52. THAUNG, Aung, No. 1099, PuBa Thiri Township, Ottara (South) Ward, Nay Pyi Taw, Burma; DOB 01 Dec 1940; POB Kyauk Kaw Village, Thaung Tha Township, Burma; Gender Male; National ID No. 13/KaLaNa (Naing) 011849 (Burma); Lower House Member of Parliament (individual) [BURMA].

53. THEIN, Tin Naing, Burma; DOB 1955; alt. nationality Burma; alt. citizen Burma; Brigadier General, Minister of Commerce (individual) [BURMA].

54. THI, Lun; DOB 18 Jul 1940; nationality Burma; citizen Burma; Brigadier-General; Minister of Energy (individual) [BURMA].

55. TUN, Hla, Burma; DOB 11 Jul 1951; alt. nationality Burma; alt. citizen Burma; Major General, Minister of Finance and Revenue (individual) [BURMA].

56. TUN, Saw, Burma; DOB 08 May 1935; alt. nationality Burma; alt. citizen Burma; Major General, Minister of Construction (individual) [BURMA].

57. UNION OF MYANMAR ECONOMIC HOLDINGS LIMITED (a.k.a. MYANMAR ECONOMIC HOLDINGS LIMITED; a.k.a. UMEH; a.k.a. UNION OF MYANMAR ECONOMIC HOLDINGS COMPANY LIMITED), 189-191 Maha Bandoola Road, Botahtaung Township, Yangon, Burma [BURMA].

58. LO, Hsing Han (a.k.a. LAW, Hsit-han; a.k.a. LO, Hsin Han; a.k.a. LO, Hsing-han), 20-23 Masoeyein Kyang St., Mayangone, Rangoon, Burma; 20B Massoeyein St., 9 Mile, Rangoon, Burma, Burma; 60-61 Strand Rd., Latha Township, Rangoon, Burma; 330 Strand Rd, Latha Township, Rangoon, Burma; 20 Wingabar Rd, Rangoon, Burma; 36 19th St., Lower Blk, Latha Township, Rangoon, Burma; 47 Latha St., Latha Township, Rangoon, Burma; 152 Sule Pagoda Rd, Rangoon, Burma; 126A Damazedi Rd, Bahan Township, Rangoon, Burma; DOB 1938; alt. DOB 1935 (individual) [BURMA].

59. GREEN LUCK TRADING COMPANY (a.k.a. GREEN LUCK TRADING COMPANY LIMITED), No. 61/62 Bahosi Development, Wadan Street, Lanmadaw Township, Rangoon, Burma; No. 74 Lan Thit Street, Insein Township, Rangoon, Burma [BURMA].

60. GOLDEN AARON PTE. LTD. (a.k.a. CHINA FOCUS DEVELOPMENT; a.k.a. CHINA FOCUS DEVELOPMENT LIMITED; a.k.a. CHINA FOCUS DEVELOPMENT LTD.), 3 Shenton Way, 10-01, Shenton House, Singapore 068805, Singapore; 101 Cecil Street, 08-08 Tong Eng Building, Singapore 069533, Singapore; China; Unit 2612A, Kuntai International Center, No. 12 Chaowai Street, Chaoyang District, Beijing 100020, China [BURMA].

61. GREAT SUCCESS PTE. LTD., 1 Scotts Road, #21/07-08 Shaw Centre, Singapore, 228208, Singapore; 101 Cecil Street #08-08, Tong Eng Building, Singapore, 069533, Singapore [BURMA].

62. G A LAND PTE. LTD., 1 Scotts Road, 21-07/08 Shaw House, Singapore 228208, Singapore [BURMA].

63. G A RESORT PTE. LTD., 1 Scotts Road, 21-07 Shaw House, Singapore 228208, Singapore; 3 Shenton Way, 10-01 Shenton House, Singapore 068805, Singapore [BURMA].

64. G A RESORT PTE. LTD., 3 Shenton Way, #10-01 Shenton House, Singapore 068805, Singapore [BURMA].

65. G A TREASURE PTE. LTD., 3 Shenton Way, #10-01 Shenton House, Singapore 068805, Singapore [BURMA].

66. G A TREASURE PTE. LTD., 3 Shenton Way, 10-01 Shenton House, Singapore 068805, Singapore [BURMA].

67. G A WHITEHOUSE PTE. LTD., 3 Shenton Way, #10-01 Shenton House, Singapore 068805, Singapore [BURMA].

68. G A WHITEHOUSE PTE. LTD., 3 Shenton Way, 10-01 Shenton House, Singapore 068805, Singapore [BURMA].

69. LIN, Aung Thein (a.k.a. “LYNN, Aung Thein”), Burma; DOB 1952; alt. nationality Burma; alt. citizen Burma; Brigadier General, Mayor and Chairman of Yangon City (Rangoon) City Development Committee (individual) [BURMA].

70. ZAY GABAR COMPANY (a.k.a. ZAYKABAR COMPANY), Burma [BURMA].

71. ZAW, Thein, Burma; DOB 20 Oct 1951; alt. nationality Burma; alt. citizen Burma; Brigadier General, Minister of Telecommunications, Post, & Telegraph (individual) [BURMA].

72. ZA, Pye Phyo Tay, Burma; 6 Cairnhill Circle, Number 18-07, Cairnhill Crest 229813, Singapore; DOB 29 Jan 1987; nationality Burma; citizen Burma; Son of Tay Za. (individual) [BURMA].

73. ASIA WORLD CO. LTD. (a.k.a. ASIA WORLD), 61-62 Bahosi Development Housing, Wadan St., Lanmadaw Township, Rangoon, Burma [BURMA].

74. ZAW, Zaw (a.k.a. ZAW, U Zaw); DOB 22 Oct 1966; nationality Burma; citizen Burma; Passport 828461 (Burma) issued 18 May 2006 expires 17 May 2009 (individual) [BURMA] (Linked To: HOTEL MAX; Linked To: MAX MYANMAR GROUP OF COMPANIES; Linked To: MAX SINGAPORE INTERNATIONAL PTE. LTD.).

75. SENTOSA TREASURE PTE. LTD., 3 Shenton Way, 10-01 Shenton House, Singapore 068805, Singapore [BURMA].

76. SHWE NAR WAH COMPANY LIMITED, No. 39/40, Bogyoke Aung San Road, Bahosi Housing, Lanmadaw, Rangoon, Burma; Registration ID 1922/2007-2008 (Burma) [BURMA] (Linked To: LAW, Steven).

77. SHWE, Khin (a.k.a. SHWE, Khin, Dr.), Burma; DOB 21 Jan 1952; alt. nationality Burma; alt. citizen Burma; President, Zay Gabar Company (individual) [BURMA].

78. SHWE, Than; DOB 02 Feb 1935; alt. DOB 02 Feb 1933; nationality Burma; citizen Burma; Senior General, Minister of Defense and Commander-in-Chief of Defense Services; Chairman, State Peace and Development Council (individual) [BURMA].

79. MIN, Zaw, Burma; DOB 10 Jan 1949; alt. nationality Burma; alt. citizen Burma; Colonel, Minister of Electric Power 1 (individual) [BURMA].

80. G A CAPITAL PTE. LTD., 3 Shenton Way, #10-01 Shenton House, Singapore 068805, Singapore [BURMA].

81. AIR BAGAN HOLDINGS PTE. LTD. (a.k.a. AIR BAGAN; a.k.a. AIRBAGAN), 545 Orchard Road, #01-04 Far East Shopping Centre, Singapore 238882, Singapore; 56 Shwe Taung Gyar Street, Bahan Township, Yangon, Burma; 9, 78th Street, Bet, 33rd and 34th Street, Mandalay, Burma; 134 Bogyoke Street, Myoma Quarter, Taunggyi, Burma; 3, Aung Thate Di Quarter, Nyaung U, Burma; Sandoway Inn, Thandwe, Burma; Pathein Hotel, Kanthonesint, Petheing-Monywa Road, Burma; 572 Ye Yeik That Street, Pear Ayekari Hotel, Myauk Ywa Quarter, Burma; 48 Quarter 2, Zay Tan Lay Yat, Kyaing Tong, Burma; 156 Bogyoke Aung San Road, Aung Chan Thar Building, San Sai Quarter, Tachileik, Burma; Myeik Golf Club, Pearl Mon Hotel, Airport Junction, Myeik, Burma; 244 Bet, Duwa Za Junn & Bayin Naung St., Third Quarter, Myitkyina, Burma; 414 Bogyoke Road, Kaw Thaung, Burma; Room (2), YMCA Building, Bogyoke Aung San Road, Forestry Quarter, Taunggyi, Burma; No. 407, Zei Phyu Kone Quarter, Near Ngapali Junction, Thandwe, Burma; No. Mitharsu (Family Video), No. 131/B Zay Taung Bak Lane, Zayit Quarter, Dawei, Burma; No. 13 (B), Zay Tan Gyi Street, Quarter (3), Zay Than Gyi Quarter, Kyaing Tong, Burma; 179 (Nya) Bogyoke Road, San Sai (Kha) Quarter, Tachileik, Burma; No. E (4), Construction Housing, Sumbrabun Road, Ayar Quarter, Myitkyina, Burma; No. 445, Anawa Quarter, Myinttzu Thaka Road, Kawthaung, Burma; No. 4, Naypyidaw Airport Compound, Naypyidaw, Burma; Kalaymyo, Red Cross Building, Bogyoke Street, Kalay Myo, Burma; Room-17, Stadium Building, Theinni Main Road, 12 Quarter, Lashio, Burma; Unit #310, 3rd Floor, Silom Complex, 191 Silom Road, Silom Bangrak, Bangkok 10500, Thailand; Room No. T1-112 & T-112A, Level 1, Main Terminal Building, Suvarnabhumi Airport, Bangpli, Ssamutprakarn 10540, Thailand; Doing business as AIR BAGAN [BURMA].

82. ASIA GREEN DEVELOPMENT BANK (a.k.a. AGD BANK), 168 Thiri Yatanar Shopping Complex, Zabu Thiri Township, Nay Pyi Taw, Burma; 73/75 Sule Pagoda Road, Pabedan Township, Yangon, Burma; SWIFT/BIC AGDB MM MY [BURMA].

83. AIR BAGAN LIMITED (a.k.a. AIR BAGAN), 56 Shwe Taung Gyar Street, Bahan Township, Yangon, Burma; 9, 78th Street, Bet, Mandalay, Burma; 134 Bogyoke Street, Myoma Quarter, Taunggyi, Burma; 3, Aung Thate Di Quarter, Nyaung U, Burma; Sandoway Inn, Thandwe, Burma; Pathein Hotel, Kanthonesint, Petheing-Monywa Road, Burma; 572 Ye Yeik Tha Street, Pear Ayekari Hotel, Myauk Ywa Quarter, Burma; 48 Quarter 2, Zay Tan Lay Yat, Kyaing Tong, Burma; 156 Bogyoke Aung San Road, Aung Chan Thar Building, San Sai Quarter, Tachileik, Burma; Myeik Golf Club, Pearl Mon Hotel, Airport Junction, Myeik, Burma; 244 Bet, Duwa Zaw Junn & Bayin Naung St., Thida Quarter, Myitkyina, Burma; 414 Bogyoke Road, Kaw Thaung, Burma; No.6/88, 6 Quarter, Lalway, Naypyitaw, Burma; Kalaymyo, Red Cross Building, Bogyoke Street, Kalay Myo, Burma; Room (2), YMCA Building, Bogyoke Aung San Road, Forestry Quarter, Taunggyi, Burma; No. 407, Zei Phyu Kone Quarter, Near Ngapali Junction, Thandwe, Burma; No. Mitharsu (Family Video), No. 131/B Zay Taung Bak Lane, Zayit Quarter, Dawei, Burma; No. 13 (B) Zay Tan Gyi Street, Quarter (3), Zay Than Gyi Quarter, Kyaing Tong, Burma; 179 (Nya) Bogyoke Road, San Sai (Kha) Quarter, Tachileik, Burma; No. E (4), Construction Housing, Sumbrabun Road, Ayar Quarter, Myitkyina, Burma; No. 445, Anawa Quarter, Myinttzu Thaka Road, Kawthaung, Burma; No. 4, Naypyidaw, Airport Compound, Naypyidaw, Burma; Room-17, Stadium Building, Theinni Main Road, 12 Quarter, Lashio, Burma; Unit #310, 3rd Floor, Silom Complex, 191 Silom Road, Silom Bangrak, Bangkok 10500, Thailand; Room No. T1-112 & T1-112A, Level 1, Main Terminal Building, Suvarnabhumi Airport, Bangpli, Ssamutprakarn 10540, Thailand; Doing business as AIR BAGAN. [BURMA].

84. ASIA LIGHT CO. LTD., Mingalar Taung Nyunt Tower, 6 Upper Pansoden Street, Aung San Stadium Eastern Wing, Rangoon, Burma; 15/19 Kunjan Rd., S Aung San Std, Rangoon, Burma [BURMA].

85. ASIA MEGA LINK CO., LTD., No. 39/40, Bogyoke Aung San Road, Bahosi Housing, Lanmadaw, Rangoon, Burma; Registration ID 1679/2009-2010 (Burma) [BURMA] (Linked To: ASIA WORLD CO. LTD.).

86. ASIA MEGA LINK SERVICES CO., LTD., No. 44/45, Bogyoke Aung San Road, Bahosi Housing Complex, Lanmadaw, Rangoon, Burma; Registration ID 2652/2010-2011 (Burma) [BURMA] (Linked To: ASIA WORLD CO. LTD.).

87. ASIA METAL COMPANY LIMITED, No. 106 Pan Pe Khaung Maung Khtet Road, Industrial Zone (4), Shwe Pyi Thar Township, Yangon, Burma; No. (40) Yangon-Mandalay Road, Kywe Sekan, Pyay Gyi Tagon Township, Mandalay, Burma; No. A/B (1-5), Paung Laung (24) Street, Ext., Ward (2), Nay Pyi Taw, Pyinmana, Burma; Web site http://www.amcsteel.com; Email Address asiametal@myanmar.com.mm [BURMA].

88. ASIA PIONEER IMPEX PTE. LTD., 10 Anson Road, #23-16 International Plaza, Singapore 079903, Singapore [BURMA].

89. MYAWADDY BANK LTD. (a.k.a. MYAWADDY BANK), 24/26 Sule Pagoda Road, Yangon, Burma [BURMA].

90. MYANMAR TREASURE RESORTS (a.k.a. MYANMAR TREASURE BEACH RESORT; a.k.a. MYANMAR TREASURE BEACH RESORTS; a.k.a. MYANMAR TREASURE RESORT (BAGAN); a.k.a. MYANMAR TREASURE RESORT (PATHEIN); a.k.a. “MYANMAR TREASURE RESORT II”), No. 41 Shwe Taung Gyar Street, Bahan Township, Yangon, Burma; No 56 Shwe Taung Gyar Road, Golden Valley, Bahan Township, Yangon, Burma [BURMA].

91. MYANMAR RUBY ENTERPRISE CO. LTD. (a.k.a. MYANMAR RUBY ENTERPRISE), 24/26 Sule Pagoda Road, Kyauktada Township, Yangon, Burma [BURMA].

92. MAX MYANMAR SERVICES CO., LTD., 1 Ywama Curve, Bayint Naung Road, Ward (2), Hlaing Township, Yangon, Burma [BURMA].

93. MAX MYANMAR TRADING CO., LTD., 1 Ywama Curve, Bayint Naung Road, Ward (2), Hlaing Township, Yangon, Burma [BURMA].

94. MAX SINGAPORE INTERNATIONAL PTE. LTD., 3 Shenton Way, #24-02, Shenton House 068805, Singapore [BURMA].

95. MYANMAR AVIA EXPORT COMPANY LIMITED (a.k.a. MYANMAR AVIA EXPORT) [BURMA].

96. YUZANA COMPANY LIMITED (a.k.a. YUZANA CONSTRUCTION), No. 130 Yuzana Centre, Shwegondaing Road, Bahan Township, Yangon, Burma [BURMA].

97. PAVO TRADING PTE. LTD., 3 Shenton Way, #24-02 Shenton House, Singapore 068805, Singapore [BURMA].

98. PIONEER AERODROME SERVICES CO., LTD., No. 203/204, Thiri Mingalar Housing, Strand Rd, Ahlone, Rangoon, Burma; Registration ID 620/2007-2008 (Burma) [BURMA] (Linked To: ASIA WORLD CO. LTD.).

99. WIN, Nyan; DOB 22 Jan 1953; nationality Burma; citizen Burma; Major General; Minister of Foreign Affairs (individual) [BURMA].

100. WIN, Kyaw; DOB 03 Jan 1944; nationality Burma; citizen Burma; Lieutenant-General; Chief of Bureau of Special Operation 2; Member, State Peace and Development Council (individual) [BURMA].

101. ROYAL KUMUDRA HOTEL, No. 9 Hotel Zone, Nay Pyi Taw, Burma; No. 1 Ywama Curve, Ba Yint Naung Road, Block (2), Hlaing Township, Rangoon, Burma [BURMA].

102. S H NG TRADING, 3 Shenton Way, #10-01 Shenton House, Singapore 068805, Singapore [BURMA].

103. GREEN ASIA SERVICES CO., LTD., No. 61/62, Bahosi Housing, War Tan St., Lanmadaw T/S, Rangoon, Burma; Registration ID 4013/2011-2012 (Burma) [BURMA] (Linked To: ASIA WORLD CO. LTD.).

104. GLOBAL WORLD INSURANCE COMPANY LIMITED, No. 44, Thein Phyu Road, Corner of Bogyoke Aung San Road and Thein Phyu Road, Pazuntaung, Rangoon, Burma; Registration ID 2511/2012-2013 (Burma) [BURMA] (Linked To: ASIA WORLD CO. LTD.).

105. G A FOODSTUFFS PTE. LTD., 3 Shenton Way, #10-01 Shenton House, Singapore 068805, Singapore [BURMA].

106. G A LAND PTE. LTD., 3 Shenton Way, #10-01 Shenton House, Singapore 068805, Singapore [BURMA].

107. THET, Khin Lay (a.k.a. THET, Daw Khin Lay); DOB 19 Jun 1947; wife of Thura Shwe Mann (individual) [BURMA].

108. THIHA (a.k.a. THI HA), c/o Htoo Group of Companies, undetermined; c/o Htoo Trading Company Limited, undetermined; DOB 24 Jun 1960 (individual) [BURMA].

109. ZA, Tay (a.k.a. TAYZA; a.k.a. TEZA; a.k.a. ZA, Te; a.k.a. ZA, U Tay; a.k.a. ZA, U Te), 6 Cairnhill Circle, Number 18-07, Cairnhill Crest 229813, Singapore; Burma; DOB 18 Jul 1964; alt. DOB 18 Jun 1967; nationality Burma; citizen Burma; Managing Director, Htoo Trading Company Limited; Chairman, Air Bagan Holdings Pte. Ltd. (d.b.a. Air Bagan); Managing Director, Pavo Trading Pte. Ltd. (individual) [BURMA].

110. G A SENTOSA PTE. LTD., 3 Shenton Way, #10-01 Shenton House, Singapore 068805, Singapore [BURMA].

111. G A SENTOSA PTE. LTD., 101 Cecil Street, 08-08 Tong Eng Building, Singapore 069533, Singapore [BURMA].

Dated: October 11, 2016.
John E. Smith,
Acting Director, Office of Foreign Assets Control.

[FR Doc. 2016-26124 Filed 10-28-16; 8:45 am]

BILLING CODE 4810-AL-P